DEPARTMENT OF DEFENSE

Department of the Air Force

Privacy Act of 1974; System of Records

AGENCY: Department of the Air Force, DoD.

ACTION: Notice to Amend Systems of Records.

SUMMARY: The Department of the Air Force is amending eight systems of records notices in its existing inventory of record systems subject to the Privacy Act of 1974, (5 U.S.C. 552a), as amended.

Six of the amendments being made are to alert the users of these systems of records of the additional requirements of the Health Insurance Portability and Accountability Act (HIPAA) of 1996, as implemented by DoD 6025.18-R, DoD Health Information Privacy Regulation. Language being added under the “Routine Use” category is as follows:

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

DATES: This proposed action will be effective without further notice on September 29, 2003 unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 601-4043.

SUPPLEMENTARY INFORMATION: The Department of the Air Force systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: August 22, 2003.
Patricia Toppings,
Alternate OSD Federal Register Liaison Officer, Department of Defense.

F031 AF SP A

System name:

Correction and Rehabilitation Records (June 11, 1997, 62 FR 31793).

Changes

System identifier:

Delete entry and replace with ‘F031 AF SF A’.

* * * * *

Categories of records:

Replace “prisoner” with “inmate” throughout notice. In the second paragraph, delete ‘from escaped’.

* * * * *

Purpose(s):

Delete Historical records in microfilm are used as a research data base’ from entry.

* * * * *

Safeguards:

Add to entry ‘Those in computer storage devices are protected by computer system software.’

Retention and disposal:

Add at end “63132-2001. Some records pertaining to clemency/parole actions are retained for five years after final action.”

* * * * *

F031 AF SF A

System name:

Correction and Rehabilitation Records.

System location:

Headquarters, Air Force Security Forces Center, 1517 Billy Mitchell Boulevard, Lackland Air Force Base, TX 78236-5226, and elements; the Air Force Clemency and Parole Board, Office of the Secretary of the Air Force Personnel Council, 1535 Command Drive, EE-Wing, Third Floor, Andrews Air Force Base MD 20762-7002.

Chief of Security Forces at local installation where individual is assigned. Official mailing addresses are published as an appendix to the Air Force’s compilation of systems of records notices. Records may also be at the National Personnel Records Center, Military Personnel Records, 9700 Page Boulevard, St. Louis, MO 63132-2001.

Categories of individuals covered by the system:

Individuals placed in confinement at an installation or federal prison as the result of military criminal conviction.

Individuals placed in confinement or rehabilitation and assigned to Headquarters, Air Force Security Forces Center (AFSFC) or any element of operating location.

Categories of records in the system:

Inmate personnel records consisting of confinement orders, release orders, personal history records, medical examiners report, request and receipt for health and comfort supplies, recommendations for disciplinary action, inspection records, inmate classification summaries and records pertaining to any clemency/parole actions.

Corrections officers records including personal deposit fund records and related documents, disciplinary books, correction facility blotters and visitor registers; requests for interview and evaluation reports; inmate records consisting of daily strength records and reports of escaped and returned inmates.

Psychological or rehabilitation test records.

Clemency and Parole Board decisional documents and related records reflecting the action of the Board, the Board's recommendations to the Secretary and the rationale for actions taken or proposed.

Authority for maintenance of the system:

10 U.S.C. 8013, Secretary of the Air Force; Air Force Instruction 31-205, Air Force Corrections System, and E.O. 9397 (SSN).

Purpose(s):

To maintain a life file on the individual as an inmate on an Air Force installation, or as an Air Force inmate serving a sentence in a federal prison.

The records are used to establish background for either disciplinary or good conduct action as well as general administration uses of the records concerning health and welfare of the individual, as well as clemency and parole actions.

Routine uses of records maintained in the system, including categories of users and the purposes of such uses:

In addition to those disclosures generally permitted under 5 U.S.C. 552a(b) of the Privacy Act, these records, or information contained therein, may specifically be disclosed outside the DOD as a routine use pursuant to 5 U.S.C. 552a(b)(3) as follows:

Information may also be disclosed Federal, state, and local law enforcement and investigation agencies for investigation and possible criminal prosecution, civil court actions or regulatory orders, confinement/correctional agencies for use in the administration of correctional programs, including custody classification, employment, training and educational assignments, treatment programs, clemency, restoration to duty or parole actions, verification of offender's criminal records, employment records, and social histories.

The DoD “Blanket Routine Uses” published at the beginning of the Air Force's compilation of systems of records notices apply to this system.

Policies and practices for storing, retrieving, accessing, retaining, and disposing of records in the system:

Storage:

Maintained in file folders, in notebooks/binders, in card files, on computer and computer output products, and as photographs.

Retrievability:

Retrieved by any or a combination of name, Social Security Number and fingerprint classification, or by date of board hearing.

Safeguards:

Records are accessed by custodian of the record system and by person(s) responsible for servicing the record system in performance of their official duties. Records are stored in locked cabinets or rooms and controlled by visitor registers. Those in computer storage devices are protected by computer system software.

Retention and disposal:

Depending on the type of record within the system, it is either destroyed after release of the inmate, maintained for one year after the release of the individual, or retained in the files at the facility in which the individual was confined for three months, after which time the record is forwarded to Headquarters, Air Force Security Forces Agency, Corrections Division, 1517 Billy Mitchell Boulevard, Lackland Air Force Base, TX 78236-5226. Within two years after receipt, records are sent to the National Personnel Records Center, Military Personnel Records, 9700 Page Boulevard, St. Louis, MO 63132-2001. Some records pertaining to clemency/parole actions are retained for five years after final action.

System manager(s) and address:

Director, AF Corrections, Headquarters, Air Force Security Forces Center, Corrections Division, 1517 Billy Mitchell Boulevard, Lackland Air Force Base, TX 78236-5226.

Executive Secretary, Air Force Clemency and Parole Board, Office of the Secretary of the Air Force Personnel Council, 1535 Command Drive, EE-Wing, Third Floor, Andrews Air Force Base, MD 20762-7002.

Chief of Security Forces at local installation where individual is assigned. Official mailing addresses are published as an appendix to the Air Force's compilation of systems of records notices.

Notification procedure:

Individuals seeking to determine whether this system of records contains information on themselves should address written inquiries to the Director, AF Corrections, Corrections Division, Headquarters, Air Force Security Forces Center, 1517 Billy Mitchell Boulevard, Lackland Air Force Base, TX 78236-5226; Executive Secretary, Air Force Clemency and Parole Boulevard, Office of the Secretary of the Air Force Personnel Council, 1535 Command Drive, EE-Wing, Third Floor, Andrews Air Force Base, MD 20762-7002; or Chief of Security Forces at local installation where individual was last assigned. Official mailing addresses are published as an appendix to the Air Force's compilation of systems of records notices.

Record access procedures:

Individuals seeking access to records about themselves contained in this system should address written requests to the Director, AF Corrections, Corrections Division, Headquarters, Air Force Security Forces Center, 1517 Billy Mitchell Boulevard, Lackland Air Force Base, TX 78236-5226; Executive Secretary, Air Force Clemency and Parole Boulevard, Office of the Secretary of the Air Force Personnel Council, 1535 Command Drive, EE-Wing, Third Floor, Andrews Air Force Base, MD 20762-7002; or Chief of Security Forces at local installation where individual was last assigned. Official mailing addresses are published as an appendix to the Air Force's compilation of systems of records notices.

Contesting record procedures:

The Air Force rules for accessing records, and for contesting contents and appealing initial agency determinations are published in Air Force Instruction 37-132; 32 CFR part 806b; or may be obtained from the system manager.

Record source categories:

Financial and medical institutions, police and investigative officers, state or local government, witnesses or source documents.

Installation level confinement facilities, courts-martial, and court-martial reviews, and submissions received directly from, or in behalf of the inmate.

Exemptions claimed for the system:

Parts of this system may be exempt pursuant to 5 U.S.C. 552a(j)(2) if the information is compiled and maintained by a component of the agency, which performs as its principle function any activity pertaining to the enforcement of criminal laws.

An exemption rule for this record system has been promulgated in accordance with the requirements of 5 U.S.C. 553(b)(1), (2), and (3), (c) and (e) and published in 32 CFR part 806b. For additional information contact the system manager.

F031 AF SP E

System name:

Security Forces Management Information System (SFMIS) (August 21, 2001, 66 FR 43843).

Changes

* * * * *

System manager(s) and address:

Replace ‘1720 Patrick Street, Lackland Air Force Base, TX 78236-5226’ with ‘1517 Billy Mitchell Boulevard, Lackland Air Force Base, TX 78236-0119.’

* * * * *

F031 AF SP E

System name:

Security Forces Management Information System (SFMIS).

System location:

DISA MegaCenter, Building 857, 401 E. Drive, Maxwell Air Force Base—Gunter Annex, AL 36114-3001; security forces units at all levels can access the system.

Categories of individuals covered by the system:

Individuals involved in incidents and accidents occurring on Air Force (AF) installations, or reportable incidents occurring off base, including all active duty military personnel, reserve and guard; DoD civilians and other civilians; and retirees, who may be victims, witnesses, complainants, offenders, suspects, drivers; individuals who have had tickets issued on base, or had their license suspended or revoked; those persons barred from the installation; and persons possessing a licensed firearm.

Categories of records in the system:

Data on individuals (victims, witnesses, complainants, offenders, suspects, and drivers) involved in incidents may include, but is not limited to, name; Social Security Number; date of birth; place of birth; home address and phone; alias; race; ethnicity; sex; marital status; identifying marks (tattoos, scars, etc.); height; weight; eye and hair color; date, location, nature and details of the incident/offense to include whether alcohol, drugs and/or weapons were involved; driver’s license information; tickets issued; vehicle information; suspension/revocation or barment records; whether bias against any particular group was involved; if offense involved sexual harassment; actions taken by military commanders (e.g., administrative and/or non-judicial measures, to include sanctions imposed); referral actions; court-martial results and punishments imposed; confinement information, to include location of correctional facility, gang/cult affiliation if applicable; and release/parole/clemency eligibility dates.

Authority for maintenance of the system:

10 U.S.C. 8013, Secretary of the Air Force; DoD Directive 7730.47, Defense Incident Based Reporting System (DIBRS); Air Force Instruction 31-203, Security Forces Management Information System; 18 U.S.C. 922 note, Brady Handgun Violence Prevention Act; 28 U.S.C. 534 note, Uniform Federal Crime Reporting Act; 42 U.S.C. 10601 et seq., Victims Rights and Restitution Act of 1990; and E.O. 9397 (SSN).

Purpose(s):

Serves as a repository of criminal and specified other non-criminal incidents used to satisfy statutory and regulatory reporting requirements, specifically to provide crime statistics required by the Department of Justice (DoJ) under the Uniform Federal Crime Reporting Act; to provide personal information required by the DoJ under the Brady Handgun Violence Prevention Act; and statistical information required by DoD under the Victim's Rights and Restitution Act; and to enhance AF's capability to analyze trends and to respond to executive, legislative, and oversight requests for statistical crime data relating to criminal and other high-interest incidents.

Security Forces commanders will use criminal/statistical data for local law enforcement purposes. The system generates reports for use by the Air Force Security Forces at all levels of command, provides security forces commanders the ability to view criminal statistics and apply whatever actions are necessary for enforcement.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Justice for criminal reporting purposes and as required by the Brady Handgun Violence Prevention Act.

To courts and state, local, and foreign law enforcement agencies for valid judicial proceedings.

To victims and witnesses to comply with the Victim and Witness Assistance Program, the Sexual Assault Prevention and Response Program, and the Victims' Rights and Restitution Act of 1990.

The DoD “Blanket Routine Uses” published at the beginning of the Air Force's compilation of systems of records notices apply to this system.

Policies and practices for storing, retrieving, accessing, retaining, and disposing of records in the system:

Storage:

Maintained on computers and computer output products; some paper reports are generated.

Retrievability:

Records are retrieved by name or Social Security Number.

Safeguards:

Records are accessed by person(s) responsible for servicing the record system in performance of their official duties, and by authorized personnel who are properly screened and cleared for need-to-know. Records are stored in computer storage devices which are protected by computer system software.

Retention and disposal:

Disposition pending. No records will be destroyed until authorization is granted from the National Archives and Records Administration. All records will be retained until approval is granted.

System manager(s) and address:

Reports and Analysis Program Manager, Police Services Branch, Headquarters Air Force Security Forces Center (HQ AFSFC/SFOP), 1517 Billy Mitchell Boulevard, Lackland Air Force Base, TX 78236-0119.

Notification procedure:

Individuals seeking to access records about themselves contained in the system should address written requests to their servicing Security Forces Administrative Reports Section (SFAR) or visit the system manager at HQ Air Force Security Forces Center, Police Services Branch (HQ AFSFC/SFOP), 1517 Billy Mitchell Boulevard, Lackland Air Force Base, TX 78236-0119.

Individuals must identify themselves by full name, rank, home address, Social Security Number and present a military ID, valid driver's license, or some other form of identification when appearing in person.

Record access procedures:

Individuals seeking to access records about themselves contained in the system should address written requests to their servicing Security Forces Administrative Reports Section (SFAR) or visit the system manager at HQ Air Force Security Forces Center, Police Services Branch (HQ AFSFC/SFOP), 1517 Billy Mitchell Boulevard, Lackland Air Force Base, TX 78236-0119.

Individuals must identify themselves by full name, rank, home address, and Social Security Number.

Contesting records procedures:

The Air Force rules for accessing records, for contesting contents and appealing initial agency determinations are published in Air Force Instruction 37-132; 32 CFR part 806b; or may be obtained from the system manager.

Record source categories:

Information obtained from individuals; DoD and civilian law enforcement authorities, security flight personnel, desk sergeants, operations personnel, staff judge advocates, courts-martial, correctional institutions and facilities, and administrative reports branch personnel.

Exemptions claimed for the system:

Parts of this system may be exempt pursuant to 5 U.S.C. 552a(j)(2) if the information is compiled and maintained by a component of the agency, which performs as its principle function any activity pertaining to the enforcement of criminal laws.

An exemption rule for this exemption has been promulgated in accordance with requirements of 5 U.S.C. 553(b)(1), (2), and (3), (c) and (e) and published in 32 CFR part 806b. For additional information contact the system manager.

F044 AFPC A

System name:

Medical Assignment Limitation Record System (June 11, 1997, 62 FR 31793).

Changes

* * * * *

Routine uses of records maintained in the system, including categories of users and the purposes of such uses:

Add a new paragraph to the end of the entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

F044 AFPC A

System name:

Medical Assignment Limitation Record System.

System location:

Headquarters Air Force Personnel Center, Medical Service Officer Utilization Division, 550 C Street W, Randolph Air Force Base, TX 78150-4703.

Categories of individuals covered by the system:

All Air Force members whose cases have been presented to a Medical Evaluation Board and were returned to duty by Medical Evaluation Board or Physical Evaluation Board action and have been assigned an Assignment limitation Code “C”.

Categories of records in the system:

Medical Evaluation Board, Report of Medical Examination, Report of Medical History, Narrative Summary, Clinical Record Consultation Sheet, Electrocardiographic Record, etc.

Authority for maintenance of the system:

10 U.S.C. 8013, Secretary of the Air Force; Air Force Instruction 36-2902, Physical Evaluation for Retention, Retirement and Separation; and Air Force Instruction 36-2110.

Purpose(s):

To determine if previous action has been taken by the system manager, and what the previous disposition was.

Routine uses of records maintained in the system, including categories of users and the purposes of such uses:

In addition to those disclosures generally permitted under 5 U.S.C. 552a(b) of the Privacy Act, these records, or information contained therein, may specifically be disclosed outside the DOD as a routine use pursuant to 5 U.S.C. 552a(b)(3) as follows:

The DoD ‘Blanket Routine Uses’ published at the beginning of the Air Force's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Maintained in file folders.

Retrievability:

Retrieved by name.

Safeguards:

Records are accessed by person(s) responsible for servicing the record system in performance of their official duties. Records are stored in locked rooms and cabinets.

Retention and disposal:

Retained in office files for two years or no longer needed for reference, then destroyed by tearing into pieces, shredding, pulping, macerating, or burning.

System manager(s) and address:

Headquarters Air Force Personnel Center, Chief, Medical Service Officer Utilization Division, Randolph Air Force Base, TX 78150-4703.

Notification procedure:

Individuals seeking to determine whether this system of records contains information on themselves should address written inquiries to Headquarters Air Force Personnel Center, Chief, Medical Service Officer Utilization Division, Randolph Air Force Base, TX 78150-4703.

Record access procedures:

Individuals seeking to access records about themselves contained in this system should address written requests to Headquarters Air Force Personnel Center, Chief, Medical Service Officer Utilization Division, Randolph Air Force Base, TX 78150-4703.

Contesting record procedures:

The Air Force rules for accessing records and for contesting contents and appealing initial agency determinations are published in Air Force Instruction 37-132; 32 CFR part 806b; or may be obtained from the system manager.

Record source categories:

Information obtained from medical institutions.

Exemptions claimed for the system:

None.

F044 AF SG D

System name:

Automated Medical/Dental Record System (June 11, 1997, 62 FR 31793).

Changes

* * * * *

Categories of records in the system:

Delete from entry “Subsystems of the Automated Medical/Dental Data System include: Air Force Clinical Laboratory Automation System (AFCLAS); Automated Cardiac Catheterization Laboratory System (ACCLS); Computer Assisted Practice of Cardiology (CAPOC) System; DATA STAT Pharmacy System (formerly PROHECA); Occupational Health and Safety System; Patient Appointment and Scheduling System (PAS); Tri-Laboratory System (TRILAB); Tri-Pharmacy System; Tri-Radiology System (TRIRAD); Health Evaluation and Risk Tabulation (HEART).”

* * * * *

Routine uses of records maintained in the system, including categories of users and the purposes of such uses:

Add a new paragraph to the end of the entry “Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

Storage:

Delete entry and replace with “Data maintained primarily on magnetic or optical media.”

* * * * *

Record source categories:

After “when the patient is a child,” add “deemed incompetent”.

* * * * *

F044 AF SG D

System name:

Automated Medical/Dental Record System.

System location:

At Air Force medical centers, hospitals and clinics, major command headquarters and field operating agencies. Official mailing addresses are published as an appendix to the Air Force's compilation of systems of records notices.

Categories of individuals covered by the system:

Any individual who is hospitalized in, is dead on arrival at, or has received medical or dental care at an Air Force medical treatment facility.

Individuals who have received medical care at other DOD or civilian medical facilities but whose records are maintained at or processed by Air Force medical facilities.

Any military active duty member who is on an excused-from-duty status, on quarters, or subsistence elsewhere, on convalescent leave, meets Medical Evaluation Board (MEB), or a Physical Evaluation Board (PEB), on an outpatient basis or who is hospitalized in a non-federal hospital and for whom an Air Force medical facility has assumed administrative responsibility.

Any individual who has undergone medical or dental examinations at any Air Force medical facility (or whose records are maintained or processed by the Air Force), e.g., pre-employment examinations and food handlers examinations, or who has otherwise had medical or dental tests performed at any Air Force medical facility.

Categories of records in the system:

Files consist of automated records of treatment received and medical/dental tests performed on an inpatient/outpatient basis in military medical treatment facilities and of military members treated in civilian facilities. These records may include radiographic images and reports, Electrocardiographic tracings and reports, laboratory test results and reports, blood gas analysis reports, occupational health records, dental radiographic reports and records, automated cardiac catheterization data and reports, physical examination reports, patient administration and scheduling reports, pharmacy prescriptions and reports, food service reports, hearing conservation tests, cardiovascular fitness examinations and reports, reports of medical waivers granted for flight duty, and other inpatient and outpatient data and reports. They may contain information relating to medical/dental examinations and treatments, inoculations, appointment and scheduling information, and other medical and/or dental information.

Authority for maintenance of the system:

10 U.S.C. 55, Medical and Dental Care, and E.O. 9397 (SSN).

Purpose(s):

Used as a record of patient's medical/dental health, diagnosis, and treatment and disposition while authorized care.

Used to help determine individual's qualification for duty, for security clearances and for assignments.

Used by an individual or his legal representative for further medical care, legal purposes, or other uses such as insurance requests or compensation and other health care providers for further care of the patient, research teaching, and legal purposes.

Used by medical treatment facility staff for evaluation of staff performance in the care rendered; for preparation of statistical reports; for reporting communicable diseases and other conditions required by law to federal and state agencies.

Used by Army, Navy, Department of Veterans Affairs, Public Health Service or civilian hospitals for continued medical care of the patient.

Used by insurance companies (only with the patient's written consent for release, except as authorized in 10 U.S.C. 1095) for arbitrating insurance claims.

Used by other federal agencies such as Department of Veterans Affairs and Department of Labor (workmen's compensation) for adjudication of claims; for reporting communicable diseases or other conditions required by law.

Used to provide input to other DoD medical records systems including the Medical Record System, the Dental Personnel Actions, and other DoD agencies (e.g., Army, Navy) when such agency is normally the primary source or repository of medical information about the individual.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information from the inpatient or outpatient medical records of retirees and dependents may be disclosed to third party payers in accordance with 10 U.S.C. 1095 as amended by Pub. L. 99-272, for the purpose of collecting reasonable inpatient/outpatient hospital care costs incurred on behalf of retirees or dependents. In addition, records may be disclosed to:

(1) Officials and employees of the Department of Veterans Affairs in the performance of their official duties relating to the adjudication of veterans claims and in providing medical care to members of the Air Force.

(2) Officials and employees of other departments and agencies of the Executive Branch of government upon request in the performance of their official duties relating to review of the official qualifications and medical history of applicants and employees who are covered by this record system and for the conduct of research studies.

(3) Private organizations (including educational institutions) and individuals for authorized health research in the interest of the Federal government and the public. When not considered mandatory, patient identification data shall be eliminated from records used for research studies.

(4) Officials and employees of the National Research Council in cooperative studies of the National History of Disease; of prognosis and of epidemiology. Each study in which the records of members and former members of the Air Force are used must be approved by the Surgeon General of the Air Force.

(5) Officials and employees of local and state governments and agencies in the performance of their official duties pursuant to the laws and regulations governing local control of communicable diseases, preventive medicine and safety programs, child abuse and other public health and welfare programs.

(6) Authorized surveying bodies for professional certification and accreditation.

(7) The individual's organization or government agency as necessary when required by Federal statute, Executive Order, or by treaty.

(8) Public Health Service or civilian hospitals for continued medical care of the patient.

(9) Other federal agencies such as Department of Labor (workman's compensation) for adjudication of claims; for reporting communicable diseases of other conditions required by law.

The DoD ‘Blanket Routine Uses’ published at the beginning of the agency's compilation of record system notices apply to this system, except as stipulated in ‘Note’ below.

Note: Records of identity, diagnosis, prognosis or treatment of any client/patient, irrespective of whether or when he/she ceases to be a client/patient, maintained in connection with the performance of any alcohol/drug abuse treatment function conducted, requested, or directly or indirectly assisted by any department or agency of the United States, shall, except as provided herein, be confidential and be disclosed only for the purposes and under the circumstances expressly authorized in 42 U.S.C. 290dd-2, and 5 U.S.C. 552. These statutes take precedence over the Privacy Act of 1974 in regard to accessibility of such records except to the individual to whom the record pertains. The DoD “Blanket Routine Uses” do not apply to these records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Data maintained primarily on magnetic or optical media.

Retrievability:

Retrieved by Social Security Number. May also be retrieved by sponsor's Social Security Number in combination with the family member prefix; by name, or by inpatient register number, laboratory accession number, or pharmacy prescription number.

Retention and disposal:

Computer files are retained for variable lengths of time depending upon the type of information involved and the size and mission of the medical treatment facility. Retention time may vary from one day to ten years. Records are disposed of by erasure of the magnetic computer records and destruction of the computer related worksheets on paper, film, or other media by tearing, shredding, pulping, burning or other destructive methods. Identical medical/dental information may be retained for longer periods of time in other medical records systems (such as inpatient or outpatient charts), including the Medical Record System (F168 AF SG C) and Dental Personnel Actions (SG 162 SG A).

System manager(s) and address:

Major command and field operating agencies; commanders of United States Air Force medical treatment facilities. Official mailing addresses are published as an appendix to the Air Force's compilation of systems notices.

Notification procedure:

Individuals seeking to determine whether this system of records contains information about themselves should address inquires to the appropriate system manager. Official mailing addresses are published as an appendix to the Air Force's compilation of record systems notices.

Record access procedures:

Individuals seeking access to records about themselves contained in this system should address requests to the appropriate system manager. Official mailing addresses are published as an appendix to the Air Force's compilation of record systems notices.

Requests should include complete name (including maiden name), sponsor's name, Social Security Number or Service Number of person through whom eligibility is established, category of record desired, year in which treatment was provided, whether treatment was inpatient or outpatient. If the individual establishes eligibility through a sponsor other than self, the request should include the relationship to the sponsor, e.g., spouse, second oldest child, parent, etc.

Contesting record procedures:

The Air Force rules for accessing records and for contesting contents and appealing initial agency determinations are published in Air Force Instruction 37-132; 32 CFR part 806b; or may be obtained from the system manager.

Record source categories:

Information is obtained directly from the individual whenever practical and possible; from other individuals when necessary, e.g., when the patient is a child deemed incompetent or is in coma; from other medical institutions; from automated systems interfaces; from medical records, and from patient interactions with physicians and other health care providers.

Exemptions claimed for the system:

None.

F044 AF SG E

System name:

Medical Record System (June 11, 1997, 62 FR 31793).

Changes

* * * * *

Category of records in the system:

Replace first sentence with ‘Inpatient, outpatient, and ambulatory procedure visit (APV) records of care received in Air Force medical facilities.’

* * * * *

Routine uses of records maintained in the system, including categories of users and the purposes of such uses:

Replace first sentence in second paragraph to read ‘Information from the inpatient, outpatient, or APV medical records of retirees and dependents may be disclosed to third party payers in accordance with 10 U.S.C. 1095 as amended by Public Law 99-272, for the purpose of collecting reasonable inpatient/outpatient/APV hospital care costs incurred on behalf of retirees or dependents.’

Add a new paragraph to the end of the entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

F044 AF SG E

System name:

Medical Record System.

System location:

Headquarters, United States Air Force, Surgeon General (HQ USAF/SG), medical centers, hospitals and clinics, medical aid stations, National Personnel Record Centers, Air National Guard activities, and Air Force Reserve units. Official mailing addresses are published as an appendix to the Air Force compilation of systems notices.

Categories of individuals covered by the system:

Persons treated in an Air Force medical facility and active duty members for whom primary care is provided.

Categories of records in the system:

Inpatient, outpatient, and ambulatory procedure visit (APV) records of care received in Air Force medical facilities. Documentation includes, but is not limited to, patient’s medical history; physical examination; treatment received; supporting documentation such as laboratory and x-ray reports; cover sheets and summaries of hospitalization; diagnoses; procedures or surgery performed; administrative forms which concern medical conditions such as Line of Duty Determinations; physical profiles, and medical recommendations for flying duty. Secondary files are maintained such as patient registers, nominal indices, x-ray and laboratory files, indices and registers

Authority for maintenance of the system:

10 U.S.C. 55, Medical and Dental Care; 10 U.S.C. 8013, Secretary of the Air Force; and E.O. 9397 (SSN).

Purpose(s):

Used to document, plan, and coordinate the health care of patients; aid in preventative health and communicable disease control programs; determine eligibility and suitability for benefits for various programs; adjudicate claims; evaluate care rendered; teach compile statistical data, and conduct research.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information from the inpatient, outpatient, or APV medical records of retirees and dependents may be disclosed to third party payers in accordance with 10 U.S.C. 1095 as amended by Public Law 99-272, for the purpose of collecting reasonable inpatient/outpatient/APV hospital care costs incurred on behalf of retirees or dependents. Records are used and reviewed by health care providers in the performance of their duties. Health care providers include military and civilian providers assigned to the medical facility where care is being provided. Students participating in a training affiliation program with a USAF medical facility may also use and review records as part of their training program. In addition, records may be disclosed to:

(1) Officials and employees of the Department of Veterans Affairs in the performance of their official duties relating to the adjudication of veterans claims and in providing medical care to members of the Air Force.

(2) Officials and employees of other departments and agencies of the Executive Branch of government upon request in the performance of their official duties relating to review of the official qualifications and medical history of applicants and employees who are covered by this record system and for the conduct of research studies.

(3) Private organizations (including educational institutions) and individuals for authorized health research in the interest of the Federal government and the public. When not considered mandatory, patient identification data shall be eliminated from records used for research studies.

(4) Officials and employees of the National Research Council in cooperative studies of the National History of Disease; of prognosis and of epidemiology. Each study in which the records of members and former members of the Air Force are used must be approved by the Surgeon General of the Air Force.

(5) Officials and employees of local and state governments and agencies in the performance of their official duties pursuant to the laws and regulations governing local control of communicable diseases, preventive medicine and safety programs, child abuse and other public health and welfare programs.

(6) Authorized surveying bodies for professional certification and accreditations.

(7) The individual's organization or government agency as necessary when required by Federal statute, E.O., or by treaty.

The DoD ‘Blanket Routine Uses’ published at the beginning of the Air Force's compilation of record system notices apply to this system, except as stipulated in “Note” below.

Note: Records of identity, diagnosis, prognosis or treatment of any client/patient, irrespective of whether or when he/she ceases to be a client/patient, maintained in connection with the performance of any alcohol/drug abuse treatment function conducted, requested, or directly or indirectly assisted by any department or agency of the United States, shall, except as provided herein, be confidential and be disclosed only for the purposes and under the circumstances expressly authorized in 42 U.S.C. 290dd-2. These statutes take precedence over the Privacy Act of 1974 in regard to accessibility of such records except to the individual to whom the record pertains. The DoD ‘Blanket Routine Uses’ do not apply to these types of records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Maintained in paper and machine-readable form.

Retrievability:

By name, Social Security Number, or by Military Service Number.

Safeguards:

Records are accessed by commanders of medical centers, hospitals, and clinics; by custodian of the record system, and by person(s) responsible for servicing the record system in performance of their official duties and by authorized personnel who are properly screened and cleared for need-to-know. Records are stored in locked rooms and cabinets, and access to automated records is controlled and limited.

Retention and disposal:

While on active duty, the Health Record of a U.S. military member is maintained at the medical unit at which the person receives treatment. On separation or retirement, records are forwarded to National Personnel Records Center/Military Personnel Records (NPRC/MPR) or other designated depository, such as Commandant, U.S. Coast Guard for that agency's personnel, to appropriate Department of Veterans Affairs (DVA) Regional Office if a DVA claim has been filed. Records of non-active duty personnel may be hand carried or mailed to the next military medical facility at which treatment will be received or the records are retained at the treating facility for a minimum of 1 year after date of last treatment then retire to NPRC or other designated depository, such as, but not limited to, Medical Director, American Red Cross, Washington, DC 20037-1898 for Red Cross personnel. At NPRC records for military personnel are retained for 50 years after date of last document, for all others 25 years.

System manager(s) and address:

The Surgeon General, Headquarters United States Air Force.

Chief of Air Force Reserve, Headquarters United States Air Force.

Director of Air National Guard, Headquarters United States Air Force.

Commanders of medical centers, hospitals, clinics, medical aid stations; Commander, Air Force Personnel Center. Official mailing addresses are published as an appendix to the Air Force's compilation of system notices.

Notification procedure:

Individuals seeking to determine whether this system of records contain information about themselves should address inquiries to or visit the system manager. Official mailing addresses are published as an appendix to the Air Force's compilation of record systems notices.

Record access procedures:

Individuals seeking access to records about themselves contained in this system should address requests to the system manager. Official mailing addresses are published as an appendix to the Air Force's compilation of systems notices.

Requester must submit full name; Social Security Number (or Military Service Number) through whom eligibility for care is established; date (at least year) treatment was provided; name of facility providing treatment, and whether treatment was as inpatient or outpatient.

Contesting record procedures:

The Air Force rules for accessing records, and for contesting contents and appealing initial agency determinations are published in Air Force Instruction 37-132; 32 CFR part 1806b; or may be obtained from the system manager.

Record source categories:

Physicians and other patient care providers such as nurses, dietitians, and physicians assistants. Administrative forms are completed by appropriate military or civilian officials.

Exemptions claimed for the system:

None.

F044 AF SG F

System name:

Medical Service Accounts (June 11, 1997, 62 FR 31793).

Changes

* * * * *

System name:

Delete entry and replace with ‘Uniform Business Office Records’.

* * * * *

Categories of records covered by the system:

Add to the end of the entry ‘and information required for billing third party insurers.’

Purpose(s):

Delete entry and replace with ‘Used by the Uniform Business Office Manager to keep a record of billing, receipts, and an instrument for cash posting. Used by Food Service Officer as a receipt for cash collected and turned in to the Medical Service Account officer.’

* * * * *

Routine uses of records maintained in the system, including categories of users and the purposes of such uses:

Add a new paragraph to the end of the entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

F044 AF SG F

System name:

Uniform Business Office Records.

System location:

Air Force hospitals, medical centers and clinics.

Categories of individuals covered by the system:

Active duty military personnel, retired military personnel, dependents of active duty, retired and deceased military personnel, and civilians treated in emergencies.

Categories of records in the system:

Hospital Invoice/Receipt/Accounts Receivable Records showing charges for subsistence and medical service and information required for billing third party insurers.

Authority for maintenance of the system:

10 U.S.C. 8013, Secretary of the Air Force and Air Force Instruction 41-120, Medical Resource Operations.

Purpose(s):

Used by the Uniform Business Office Manager to keep a record of billing, receipts, and an instrument for cash posting. Used by Food Service Officer as a receipt for cash collected and turned in to the Medical Service Account officer.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force’s compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Maintained electronically and in file folders at Clinics, Hospitals, and Medical Centers.

Retrievability:

Retrieved by name and invoice receipt or voucher number.

Safeguards:

Records are accessed by custodian of the record system, by person(s) responsible for servicing the record system in performance of their official duties and Air Force auditors.

Retention and disposal:

Retained in office files for one year after annual cut-off, then destroyed by tearing into pieces, shredding, pulping, macerating, or burning.

System manager(s) and address:

Uniform Business Office Managers at all Clinics, Hospitals, Medical Centers. Official mailing addresses are published as an appendix to the Air Force's compilation of systems of records notices.

Notification procedure:

Individuals seeking to determine whether information about themselves is contained in this system should address written inquiries to or visit the Uniform Business Office Managers at all Clinics, Hospitals, and Medical Centers. Official mailing addresses are published as an appendix to the Air Force's compilation of systems of records notices.

Record access procedures:

Individuals seeking access to information about themselves contained in this system should address written inquiries to or visit the Uniform Business Office Managers at all Clinics, Hospitals, and Medical Centers. Official mailing addresses are published as an appendix to the Air Force's compilation of systems of records notices.

Contesting record procedures:

The Air Force rules for accessing records, and for contesting contents and appealing initial agency determinations are published in Air Force Instruction 37-132; 32 CFR part 806b; or may be obtained from the system manager.

Record source categories:

Information obtained from source documents such as records, reports and accounts maintained by medical facilities.

Exemptions claimed for the system:

None.

F044 AF SG G

System name:

Nursing Service Records (June 11, 1997, 62 FR 31793).

Changes

* * * * *

Routine uses of records maintained in the system, including categories of users and the purposes of such uses:

Add a new paragraph to the end of the entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

F044 AF SG G

System name:

Nursing Service Records.

System location:

Air Force hospitals, medical centers and clinics. Official mailing addresses are published as an appendix to the Air Force's compilation of record systems notices.

Categories of individuals covered by the system:

Active duty and retired military personnel; Air Force civilian employees; Air Force Reserve and National Guard personnel; Air Force Academy cadets; dependents of military personnel; Foreign Nationals residing in the United States; American Red Cross personnel, Peace Corps, and State Department personnel; Exchange officers, anyone admitted to inpatient status in Air Force medical facilities.

Categories of records in the system:

File contains 24-hour nursing reports, listings of ward patients and registers containing information on operations performed.

Authority for maintenance of the system:

10 U.S.C. 55, Medical and dental care, and 10 U.S.C. 8067(e), Designation: Officers to perform certain professional functions, as implemented by Air Force Instruction 46-102, Nursing Care.

Purpose(s):

Used by Chief Nurse and other management personnel to determine nursing care work loads and allocate resources.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Records are used and reviewed by health care providers in the performance of their duties. Health care providers include military and civilian providers assigned to the medical facility where care is being provided. Students participating in a training affiliation program with a USAF medical facility may also use and review records as part of their training program.

The DoD ‘Blanket Routine Uses’ published at the beginning of the Air Force's compilation of record system notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Maintained in file folders, notebooks and binders.

Retrievability:

Retrieved by name, dates of admission and discharge from medical facility, date of operation.

Safeguards:

Records are accessed by person(s) responsible for servicing the record system in performance of their official duties and by authorized personnel who are properly screened and cleared for need-to-know. Records are stored in locked rooms and cabinets.

Retention and disposal:

Retained in office files for three months after monthly cutoff, then destroyed by tearing into pieces, shredding, pulping, macerating, or burning. Operation registers are destroyed after five years.

System manager(s) and address:

The Surgeon General, Headquarters, United States Air Force. Chief Nurses of medical centers and hospitals. Official mailing addresses are published as an appendix to the Air Force's compilation of system notices.

Notification procedure:

Individuals seeking to determine whether this system of records contains information on them should address inquiries to or visit the system manager. Official mailing addresses are published as an appendix to the Air Force's compilation of record systems notices. Official mailing addresses are published as an appendix to the Air Force's compilation of record systems notices.

Record access procedures:

Individuals seeking to access records about themselves contained in this system should address requests to the system manager.

Contesting record procedures:

The Air Force rules for accessing records, and for contesting contents and appealing initial agency determinations are published in Air Force Instruction 37-132; 32 CFR part 806b; or may be obtained from the system manager.

Record source categories:

From medical records and personal observations of Nursing Service personnel.

Exemptions claimed for the system:

None.

F044 AF SG M

System name:

Compression Chamber Operations (June 11, 1997, 62 FR 31793).

Changes

* * * * *

System name:

Delete entry and replace with ‘Hyperbaric Medical Operations'.

System location:

Delete entry and replace with ‘Treatment records (original) are retained in individual health record at United States Air Force or other DoD medical treatment facilities or at the National Personnel Records Center, Civilian Personnel Records, 111 Winnebago Street, St. Louis, MO 63118-4126. A copy is retained at USAF School of Aerospace Medicine, Hyperbaric Medicine Division (USAFSAM/FEH), 2601 Louis Bauer Drive, Brooks City-Base TX 78235-5130. If Hyperbaric medical treatment is provided at system locations other than USAFSAM/FEH, a copy of emergency Hyperbaric treatment records, i.e., treatment records generated for decompression sickness (DCS), arterial gas embolism (AGE), carbon monoxide poisoning (CO-poisoning) or gas gangrene will be sent to USAFSAM/FEH. Compression Chamber Reactor Case Report (AF Form 361; original) is retained indefinitely at USAFSAM/FEH, Brooks City-Base and for 3 years at individual Aerospace Physiology Training Units.'

Category of individuals covered by the system:

Delete entry and replace with ‘Personnel performing treatments; patients who are active duty military personnel, retired Air Force military personnel, dependents of military personnel, dependents of retired military, selected international students, and civilians treated on an emergency basis.'

Category of records in the system:

Delete entry and replace with ‘Treatment records of patient and records of personnel conducting treatment. Records of training dives are maintained on officers and technicians performing treatment dives.’

* * * * *

Purpose(s):

Delete entry and replace with ‘Provide an exact record for a patient treated by recompression therapy and documents patient’s response to treatment.

Records are maintained on persons performing treatments because they are exposed to the same treatment profiles as their patients and to insure their capability of performing treatment. Records are used for research and statistical analysis by the Air Force Medical Operations Agency.

Records are maintained on technicians/officers conducting procedures at treatment site to determine professional adequacy to participate in treatment dives.’

* * * * *

Routine uses of records maintained in the system, including categories of users and the purposes of such uses:

Add a new paragraph to the end of the entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

Safeguards:

Delete entry and replace with ‘Records are accessed by patient’s medical care provider(s) and by person(s) responsible for servicing the record system in performance of their official duties and by authorized personnel conducting IRB-approved research protocols. Records are stored in locked rooms and cabinets.’

* * * * *

F044 AF SG M

System name:

Hyperbaric Medical Operations.

System location:

Treatment records (original) are retained in individual health record at United States Air Force or other DoD medical treatment facilities or at the National Personnel Records Center, Civilian Personnel Records, 111 Winnebago Street, St. Louis, MO 63118-4126. A copy is retained at USAF School of Aerospace Medicine, Hyperbaric Medicine Division (USAFSAM/FEH), 2601 Louis Bauer Drive, Brooks City-Base TX 78235-5130. If Hyperbaric medical treatment is provided at system locations other than USAFSAM/FEH, a copy of emergency Hyperbaric treatment records, i.e., treatment records generated for decompression sickness (DCS), arterial gas embolism (AGE), carbon monoxide poisoning (CO-poisoning) or gas gangrene will be sent to USAFSAM/FEH. Compression Chamber Reactor Case Report (AF Form 361; original) is retained indefinitely at USAFSAM/FEH, Brooks City-Base and for 3 years at individual Aerospace Physiology Training Units.

Categories of individuals covered by the system:

Personnel performing treatments; patients who are active duty military personnel, retired Air Force military personnel, dependents of military personnel, dependents of retired military, selected international students, and civilians treated on an emergency basis.

Categories of records in the system:

Treatment records of patient and records of personnel conducting treatment. Records of training dives are maintained on officers and technicians performing treatment dives.

Authority for maintenance of the system:

10 U.S.C. 8013, Secretary of the Air Force; 10 U.S.C. 55, Medical and Dental Care, as implemented by Air Force Instruction 48-104, Aerospace Medicine; and Air Force Instruction 48-112, Hyperbaric Chamber Program.

Purpose(s):

Provide an exact record for a patient treated by recompression therapy and documents patient's response to treatment.

Records are maintained on persons performing treatments because they are exposed to the same treatment profiles as their patients and to insure their capability of performing treatment. Records are used for research and statistical analysis by the Air Force Medical Operations Agency.

Records are maintained on technicians/officers conducting procedures at treatment site to determine professional adequacy to participate in treatment dives.

Routine uses of records maintained in the system, including categories of users and the purposes of such uses:

In addition to those disclosures generally permitted under 5 U.S.C. 552a(b) of the Privacy Act, these records, or information contained therein, may specifically be disclosed outside the DOD as a routine use pursuant to 5 U.S.C. 552a(b)(3) as follows:

The DoD ‘Blanket Routine Uses’ published at the beginning of the Air Force's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Maintained in file folders and visible file binders/cabinets.

Retrievability:

Retrieved by name.

Safeguards:

Records are accessed by patient's medical care provider(s) and by person(s) responsible for servicing the record system in performance of their official duties and by authorized personnel conducting IRB-approved research protocols. Records are stored in locked rooms and cabinets.

Retention and disposal:

Treatment Records (original) retained in individual health record for fifty years after date of latest document and then destroyed. First copy and other copies at Armstrong Laboratory, Air Force Medical Operations Agency and major commands are retained in office files until superseded, obsolete, no longer needed for reference, or on inactivation, then destroyed. Copies at Physiological Training Units are destroyed after 3 years; Compression Chamber Operation Record at Physiological Training Units are retained in office files until superseded, obsolete, no longer needed for reference, or on inactivation, then destroyed. Compression Chamber Reaction Case Report (original) retained in individual health record for fifty years after date of latest document, then destroyed. First copy at Armstrong Laboratory and other copies at Headquarters Air Force Medical Operations Agency and major commands are retained in office files until superseded, obsolete, no longer needed for reference, or on inactivation, then destroyed. Copies at Physiological Training Units retained in office files until superseded, obsolete, no longer needed for reference, or on inactivation, then destroyed. Oxygen Sensitivity Tolerance/Pressure Test retained in individual health record for fifty years after date of latest document, then destroyed. All records are destroyed by tearing into pieces, shredding, pulping, macerating or burning.

System manager(s) and address:

Commander, Headquarters Air Force Medical Operation Agency, 170 Luke Avenue, Suite 400, Bolling Air Force Base, DC 20332-5113.

Notification procedure:

Individuals seeking to determine whether this system of records contains information on themselves should apply to the Medical Records Section of the relevant medical treatment facility for access.

Record access procedures:

Individuals seeking to access records about themselves contained in this system of records should apply to the Medical Records Section of the relevant medical treatment facility for access.

Contesting record procedures:

The Air Force rules for accessing records and for contesting contents and appealing initial agency determinations are published in Air Force Instruction 37-132; 32 CFR part 806b; or may be obtained from the system manager.

Record source categories:

Physicians regarding diagnosis/treatment.

Exemptions claimed for the system:

None.

[FR Doc. 03-22113 Filed 8-29-03; 8:45 am]

BILLING CODE 5001-08-P